NATIONAL SCIENCE FOUNDATION

Notice of Plan for Collection of Meteorites Issued Under the Antarctic Conservation Act of 1978, as Amended

AGENCY: National Science Foundation.

ACTION: Notice of availability of a plan for collection of meteorites; invitation for comments.

SUMMARY: On March 31, 2003, the National Science Foundation (NSF) issued a final rule that authorized the collection of meteorites in Antarctica for scientific purposes only. These regulations implement Article 7 of the Protocol on Environmental Protection to the Antarctic Treaty and are issued pursuant to Section 6 of the Antarctic Conservation Act, as amended by the Antarctic Science, Tourism and Conservation Act of 1996. The regulations require appropriate collection, handling, and curation of Antarctic meteorites to preserve their scientific value. Antarctic expeditions planning to collect meteorites in Antarctica are required to submit their plans for the collection, handling, and curation of the meteorites to the National Science Foundation. NSF is providing notice of availability of a meteorite collection plan and inviting comments on the plan.

FOR FURTHER INFORMATION CONTACT: Nadene G. Kennedy, Permit Office, Office of Polar Programs, Rm. 755, National Science Foundation, 4201 Wilson Boulevard, Arlington, VA 22230.

SUPPLEMENTARY INFORMATION: A meteorite collection plan has been received from Dr. Ralph Harvey of Case Western Reserve University. Interested parties are invited to submit written data, comments, or views with respect to this plan by August 29, 206. This plan may be inspected by interested parties at the Permit Office, address listed above.

Nadene G. Kennedy,
Permit Officer.

[FR Doc. 06-6894 Filed 8-11-06; 8:45 am]

BILLING CODE 7555-01-M